DEPARTMENT OF HEALTH AND HUMAN SERVICES

Administration on Aging

Funding Availability for Title VI Grant Applications; Extension

Purpose of Notice: Because of the continuing needs of Tribal elders, the Administration on Aging is extending the date for which the Title VI grants applications for the grant period April 1, 2011 to March 31, 2014 are due. Applications will be accepted from Tribes with grants that end on March 31, 2011.

Funding Opportunity Title/Program Name: Older Americans Act (OAA), Title VI, Part A—Grants for Native Americans, Part B—Grants for Native Hawaiian Programs and Part C—Grants for the Native American Caregiver Support Program.

Announcement Type: This is the second announcement regarding these grant dollars extending the due date.

Funding Opportunity Number: Program Announcement No. HHS-2011-AoA-Title VI-1101.

Statutory Authority: The Older Americans Act, Public Law 109-365.

Catalog of Federal Domestic Assistance (CFDA) Number: 93.047, Title VI Parts A and B and 93.054, Title VI Part C.

DATES: The deadline date for the submission of applications is January 7, 2011.

I. Funding Opportunity Description

This announcement seeks proposals for grants to provide nutritional and supportive services to Indian elders and Native Hawaiian elders under Part A and Part B and Family Caregiver support services under Part C. The goal of these programs is to increase home and community based services to older Indians, Alaska Natives and Native Hawaiians, which respond to local needs and are consistent with evidence-based prevention practices. A detailed description of the funding opportunity may be found at http://www.aoa.gov.

II. Award Information

1. Funding Instrument Type: Grant.

2. Anticipated Total Priority Area Funding per Budget Period.

The Administration on Aging (AoA) will accept applications for funding for a three-year project period, April 1, 2011 to March 31, 2014, in FY 2011 under the OAA, Title VI, Part A—Grants for Native Americans, Part B—Grants for Native Hawaiian Programs and Part C—Grants for the Native American Caregiver Support Program. Current annual funding levels for Title VI, Part A and Part B range from $76,160 to $186,000. Current annual funding levels for Title VI, Part C range from $14,410 to $57,680. Distribution of funds among tribal organizations and Native Hawaiian organizations is subject to the availability of appropriations to carry out Title VI. Funding is based on the number of eligible elders age 60 and over in your proposed service area. Successful applications from new grantees will be funded pending availability of additional funds. For those applying for Title VI, Parts A and B funding you have the option to also apply for Part C. However, to apply for Part C, you must apply for both Part A and Part C or Part B and Part C.

III. Eligibility Criteria and Other Requirements

1. Eligible Applicants

Eligibility for grant awards is limited to Tribes with grants that end on March 31, 2011. A tribal organization or Indian tribe must meet the application requirements contained in sections 612(a), 612(b), and 612(c) of the OAA. A public or nonprofit organization serving Native Hawaiians must meet the application requirements contained in sections 622(1), 622(2), and 625 of the OAA. Under the Native American Caregiver Support Program, a tribal or Native Hawaiian organization must meet the requirements as contained in section 631 of the OAA.

These sections are described in the application kit.

2. Cost Sharing or Matching

Cost Sharing or matching does not apply to these grants.

3. DUNS Number

All grant applicants must obtain a D-U-N-S number from Dun and Bradstreet. It is a nine-digit identification number, which provides unique identifiers of single business entities. The D-U-N-S number is free and easy to obtain from http://www.dnb.com/US/duns_update/.

4. Intergovernmental Review

Executive Order 12372, Intergovernmental Review of Federal Programs, is not applicable to these grant applications.

IV. Application and Submission Information

1. Address To Request Application Package

Application kits are available by writing to the U.S. Department of Health and Human Services, Administration on Aging, Office for American Indian, Alaskan Native, and Native Hawaiian Programs, Washington, DC 20201, by calling 202/357-3422, or online at http://www.aoa.gov.

2. Address for Application Submission

Applicants are encouraged to submit applications electronically via e-mail to Grants.Office@aoa.hhs.gov with the following in the subject line of the e-mail: “FY2011-2014 Title VI Application: (insert your tribal organization name).” If sending via overnight delivery service, applications must be submitted to the U.S. Department of Health and Human Services, Administration on Aging, Office of Grants Management, One Massachusetts Ave., NW., Room 4714, Washington, DC 20201, attn: Yi-Hsin Yan, and documented with a receipt by the deadline listed in the DATES section of this Notice.

Faxed applications will not be accepted.

3. Submission Dates and Times

To receive consideration, applications must be received by 11:59 p.m. est on the deadline listed in the DATES section of this Notice.

V. Responsiveness Criteria

Each application submitted will be screened to determine whether it was received by the closing date and time. Applications received by the closing date and time will be screened for completeness and conformity with the requirements outlined in Sections III and IV of this Notice and the Program Announcement. Only complete applications that meet these requirements will be considered for funding.

VI. Application Review Information

Not Applicable.

VII. Agency Contacts

Direct inquiries regarding programmatic issues to U.S. Department of Health and Human Services, Administration on Aging, Office for American Indian, Alaskan Native and Native Hawaiian Programs, Washington, DC 20201, telephone: (202) 357-3502.

Dated: December 17, 2010.
Kathy Greenlee,
Assistant Secretary for Aging.

[FR Doc. 2010-32248 Filed 12-22-10; 8:45 am]

BILLING CODE 4154-01-P